BUREAU OF CONSUMER FINANCIAL PROTECTION

[Docket No. CFPB-2018-0040]

Agency Information Collection Activities: Submission for OMB Review; Comment Request

AGENCY: Bureau of Consumer Financial Protection.

ACTION: Notice and request for comment; correction.

SUMMARY: The Bureau of Consumer Financial Protection published a document in the Federal Register of July 29, 2019, proposing to renew the Office of Management and Budget (OMB) approval for an existing information collection, titled “Equal Access to Justice Act.” The document contained an incorrect Docket Number.

FOR FURTHER INFORMATION CONTACT: Darrin King, (202) 435-9575.

SUPPLEMENTARY INFORMATION:

Correction

In the Federal Register of July 29, 2019, in FR Doc. 84-36591, on page 36591, in the third column, correct the “Docket No.” caption to read:

[Docket No. CFPB-2019-0040]

Dated: July 31, 2019.
Darrin A. King,
Paperwork Reduction Act Officer, Bureau of Consumer Financial Protection.

[FR Doc. 2019-16659 Filed 8-2-19; 8:45 am]

BILLING CODE 4810-AM-P